DEPARTMENT OF THE INTERIOR

Fish and Wildlife Service

[FWS-R3-ES-2013-N194; FXHC11300300000-156-FF03E00000]

Notice of Availability of the Draft Damage Assessment and Restoration Plan and Environmental Assessment for Enbridge Line 6B Oil Discharges Near Marshall, MI

AGENCY: Fish and Wildlife Service, Interior.

ACTION: Notice of availability; request for public comments.

SUMMARY: The U.S. Department of the Interior (DOI), acting through the U.S. Fish and Wildlife Service (FWS); the Nottawaseppi Huron Band of the Potawatomi Tribe; and the Match-E-Be-Nash-She-Wish Band of the Pottawatomi Indians have written a Draft Damage Assessment and Restoration Plan and Environmental Assessment (Draft Plan), which describes proposed alternatives for restoring injured natural resources and compensating for losses resulting from the discharges of oil from Enbridge's Line 6B oil pipeline near Marshall, Michigan, in July 2010. The Draft Plan was prepared in accordance with the Oil Pollution Act of 1990 (OPA) and the National Environmental Policy Act (NEPA). The purpose of this notice is to inform the public of the availability of the Draft Plan and to seek written comments.

DATES: Written comments must be postmarked no later than July 27, 2015.

ADDRESSES: Obtaining Documents: You may obtain copies of the documents by any of the following methods:

• Online: http://www.fws.gov/midwest/es/ec/nrda/MichiganEnbridge/index.html.

• Email: Lisa L. Williams, at lisa_williams@fws.gov. Do not use any special characters or forms of encryption in your email.

• In-person: U.S. Fish and Wildlife Service, 2651 Coolidge Road, Suite 101, East Lansing, MI 48848.

• U.S. mail: Lisa L. Williams, Contaminants Specialist, at the Coolidge Road address above.

Submitting Comments: You may submit comments to Lisa L. Williams at the Coolidge Road address above or via email at kzoorivernrda@fws.gov with “Enbridge NRDA Comment” in the subject line

FOR FURTHER INFORMATION CONTACT: Technical Information: Lisa Williams, (517) 351-8324.

SUPPLEMENTARY INFORMATION: DOI, acting through FWS; the Nottawaseppi Huron Band of the Potawatomi Tribe; and the Match-E-Be-Nash-She-Wish Band of the Pottawatomi Indians have written a Draft Damage Assessment and Restoration Plan and Environmental Assessment (Draft Plan), which describes proposed alternatives for restoring injured natural resources and compensating for losses resulting from the discharges of oil from Enbridge's Line 6B oil pipeline near Marshall, Michigan, which occurred July 25-26, 2010. The Draft Plan was prepared in accordance with the Oil Pollution Act of 1990 (OPA) and the National Environmental Policy Act (NEPA). DOI and the two tribes prepared this Draft Plan in cooperation with our co-Trustees: The Department of Commerce (DOC), acting through the National Oceanic and Atmospheric Administration (NOAA), and the State of Michigan, acting through the Michigan Department of Environmental Quality (MDEQ), the Michigan Department of Natural Resources (MDNR), and the Michigan Department of Attorney General (MDAG). The purpose of this notice is to inform the public of the availability of the Draft Plan and to seek written comments. This notice is provided pursuant to Natural Resource Damage Assessment and Restoration (NRDAR) regulations (15 CFR 990.23 and 990.55(c)) and NEPA regulations (40 CFR 1506.6).

The DOI (represented by the FWS), the DOC (represented by the NOAA), the Nottawaseppi Huron Band of the Potawatomi Tribe, the Match-E-Be-Nash-She-Wish Band of the Pottawatomi Indians, and the State of Michigan (the latter acting through MDEQ, MDNR, and MDAG) are Trustees for natural resources considered in this Draft Plan, pursuant to subpart G of the National Oil and Hazardous Substances Pollution Contingency Plan (40 CFR 300.600, 300.605, and 300.610) and Executive Order 12580. The Trustees followed the NRDAR regulations found at 15 CFR part 990 and the NEPA regulations found at 40 CFR parts 1500-1508 for the development of the Draft Plan. The Trustees will consider all public comments received during the public comment as we proceed to finalize the Draft Plan. The Draft Plan will be finalized prior to implementation of restoration. Any significant additions or modifications to the Final Plan that become necessary as restoration actions proceed will be made available for public review before any changes in restoration actions are undertaken.

Background

The goal of NRDAR under the Oil Pollution Act of 1990 (33 U.S.C. 2701 et seq.; OPA) is to make the environment and public whole for injuries to natural resources and natural resource services resulting from incidents involving discharge or substantial threat of discharge of oil. This goal is achieved through returning injured natural resources and services to baseline and compensating for interim losses of such natural resources and services through the restoration, rehabilitation, replacement, or acquisition of equivalent natural resources and/or services.

Process

In this case, the Trustees worked together in a cooperative process to identify appropriate restoration activities to address natural resource injuries caused by discharges of oil from Enbridge's Line 6B pipeline near Marshall, Michigan. The results of this administrative process are contained in the Draft Plan, which is a planning and decision document being published for public review under OPA and NEPA. The Draft Plan describes the injuries that occurred as a result of the discharges of oil, how the Trustees estimated damages, how those damages will be addressed through proposed restoration alternatives, and what the expected environmental impacts of the proposed projects would be. By law, natural resource damages received must be used to restore, rehabilitate, replace, and/or acquire the equivalent of those injured natural resources.

Public Involvement

Interested members of the public are invited to review and comment on the Plan. Copies can be requested from the address and Web site listed above. Comments on the Draft Plan should be sent to the U.S. Fish and Wildlife Service (see ADDRESSES). The U.S. Fish and Wildlife Service will provide copies of all comments to the other Trustees. All comments received from individuals become part of the official public record. Requests for such comments will be handled in accordance with the Freedom of Information Act and the Council on Environmental Quality's NEPA regulations (40 CFR 1506.6(f)).

Availability of Public Comments

The Trustees' practice is to make comments, including names and home addresses of respondents, available for public review during regular business hours. Before including your address, phone number, email address, or other personal identifying information in your comment, you should be aware that the entire comment, including your personal identifying information, may be available at any time. While individual respondents may request that the Fish and Wildlife Service withhold their personal identifying information from public review, we cannot guarantee we will be able to do so.

Authority

This notice is provided pursuant to NRDAR regulations (15 CFR 990.23 and 990.55(c)) and NEPA regulations (40 CFR 1506.6).

Dated: April 3, 2015.
Charles Wooley,
Acting Regional Director, Midwest Region, U.S. Fish and Wildlife Service.

[FR Doc. 2015-14410 Filed 6-11-15; 8:45 am]

BILLING CODE 4310-55-P